FEDERAL COMMUNICATIONS COMMISSION

[DA 00-2042]

800 MHz Specialized Mobile Radio (SMR) Service Frequencies in the Lower 80 Channels Pre-Auction Seminar Reminder; September 18, 2000

AGENCY: Federal Communications Commission.

ACTION: Notice.

SUMMARY: This document announces a free pre-auction seminar scheduled for Monday, September 18, 2000. This seminar will provide information about pre-auction procedures, service and auction rules, conduct of the auction, and the FCC remote bidding software.

DATES: September 18, 2000.

FOR FURTHER INFORMATION CONTACT: Linda Sanderson of the Auctions Operations Branch at (717) 338-2888, or for Press Inquiries, Meribeth McCarrick at (202) 418-0654.

SUPPLEMENTARY INFORMATION: This is a summary of a Public Notice released September 7, 2000. The complete text of the public notice, including the registration form, is available for inspection and copying during normal business hours in the FCC Reference Center (Room CY-A257), 445 12th Street, SW, Washington, DC. It may also be purchased from the Commission's copy contractor, International Transcription Services, Inc. (ITS, Inc.) 1231 20th Street, NW, Washington, DC 20036, (202) 857-3800. It is also available on the Commission's web site at http://www.fcc.gov.

1. A free FCC pre-auction seminar for the 800 MHz Lower 80 Channels Auction (Auction No. 36) is scheduled for Monday, September 18, 2000. Interested parties must pre-register using the attached form or by calling the FCC. Registration will begin at 8:30 a.m. and the program will end by 2 p.m. The seminar will be held at the Federal Communications Commission, 445 12th Street SW, Washington, DC. Potential bidders in the auction are strongly encouraged to attend. This seminar provides an opportunity for hands-on demonstrations of the FCC filing and bidding software and access to the FCC staff responsible for the 800 MHz band licensing and auction conduct procedures.

The following is a timeline of the important events prior to the auction start date:

Deadline to register for Pre-Auction Seminar: September 15, 2000

Seminar Date: September 18, 2000

Short Form Application (FCC Form 175): September 29, 2000 6 p.m. EST

Upfront Payments (via wire transfer): October 16, 2000 6 p.m. EST

Orders for Remote Bidding Software: October 17, 2000 5:30 p.m. EST

Mock Auction: October 30, 2000

Auction Start Date: November 1, 2000

2. It is strongly advised that potential bidders review all public notices released for this auction prior to the seminar. To register for the seminar, please contact the FCC's Auctions Hotline at (888)-225-5322, Press Option #2, or directly at (717) 338-2888.

Federal Communications Commission.
Margaret Wiener,
Deputy Chief, Auctions and Industry Analysis Division.

[FR Doc. 00-23882 Filed 9-15-00; 8:45 am]

BILLING CODE 6712-02-U